DEPARTMENT OF HEALTH AND HUMAN SERVICES

Office of the National Coordinator for Health Information Technology; American Health Information Community Meeting

ACTION: Meeting Announcement.

SUMMARY: This notice announces the meeting date for the 24th meeting of the American Health Information Community in accordance with the Federal Advisory Committee Act (Pub. L. 92-463, 5 U.S.C., App.) The American Health Information Community will advise the Secretary and recommend specific actions to achieve a common interoperability framework for health information technology (IT).

Meeting Date: September 23, 2008, from 8:30 a.m. to 3 p.m. (Eastern).

ADDRESSES: Hubert H. Humphrey building (200 Independence Avenue, SW., Washington, DC 20201), The Great Hall/Lobby.

SUPPLEMENTARY INFORMATION: The meeting will include a demonstration of the Nationwide Health Information Network (NHIN); an update on the AHIC Successor organization; a discussion on the health information technology Strategic Plan; and final reports from the Confidentiality, Privacy & Security Workgroup and the Population Health/Clinical Care Connections Workgroup.

FOR FURTHER INFORMATION: Visit http://www.hhs.gov/healthit/ahic.html.

A Web cast of the Community meeting will be available on the NIH Web site at: http://www.videocast.nih.gov/.

If you have special needs for the meeting, please contact (202) 690-7151.

Dated: August 26, 2008.
Judith Sparrow,
Director, American Health Information Community, Office of Programs and Coordination, Office of the National Coordinator for Health Information Technology.

[FR Doc. E8-20675 Filed 9-5-08; 8:45 am]

BILLING CODE 4150-45-P